DEPARTMENT OF ENERGY

Federal Energy Regulatory Commission

Notice of Transfer of License and Soliciting Comments, Motions To Intervene, and Protests

February 14, 2000.

Take notice that the following application has been filed with the Commission and is available for public inspection:

a. Application Type: Transfer of License.

b. Project No: 2548-041.

c. Date Filed: January 20, 2000.

d. Applicants: Lyons Falls Hydroelectric, Inc. and Northbrook Lyons Falls, LLC.

e. Name and Location of Project: The Lyons Falls Hydroelectric Project is on the Moose and Black Rivers in Lewis County, New York. The project does not occupy Federal or Tribal land.

f. Filed Pursuant to: Federal Power Act, 16 U.S.C. 791(a)-825(r).

g. Applicant Contacts: For Lyons Falls: Mr. John P. Garey, Lyons Falls Hydroelectric, Inc., Box 435, Hanover, NH 03755, (603) 640-6100. For Northbrook: Mr. M. Curtis Whittaker, Rath, Young and Pignatelli, One Capital Plaza, P.O. Box 150, Concord, NH 03302-1500, (603) 226-2600 and Mr. Stephen J. Sinclair, Northbrook Lyons Falls, LLC, 225 West Wacker, Suite 2330, Chicago, IL 60606, (312) 553-2136.

h. FERC Contact: Any questions on this notice should be addressed to James Hunter at (202) 219-2839, or e-mail address: james.hunter@ferc.fed.us.

i. Deadline for filing comments and or motions: March 17, 2000.

All documents (original and eight copies) should be filed with: David P. Boergers, Secretary, Federal Energy Regulatory Commission, 888 First Street, NE, Washington DC 20426.

Please include the project number (P-2548-041) on any comments or motions filed.

j. Description of Proposal: The applicants propose a transfer of the license for Project No. 2548 from Lyons Falls Hydroelectric, Inc. to Northbrook Lyons Falls, LLC. Transfer is being sought in connection with the proposed acquisition of the project by Northbrook Lyons Falls, LLC.

k. Locations of the application: A copy of the application is available for inspection and reproduction at the Commission's Public Reference Room, located at 888 First Street, NE, Room 2A, Washington, DC 20426, or by calling (202) 208-1371. The application may be viewed on the web at www.ferc.fed.us/online/rims.htm (Call (202) 208-2222 for assistance). A copy is also available for inspection and reproduction at the addresses in item g above.

l. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “RECOMMENDATIONS FOR TERMS AND CONDITIONS”, “PROTEST”, or “MOTION TO INTERVENE”, as applicable, and the Project Number of the particular application to which the filing refers. Any of the above-named documents must be filed by providing the original and the number of copies provided by the Commission's regulations to: The Secretary, Federal Energy Regulatory Commission, 888 First Street, NE, Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 00-3906 Filed 2-17-00; 8:45 am]

BILLING CODE 6717-01-M